DEPARTMENT OF TRANSPORTATION

Federal Highway Administration

Environmental Impact Statement; Los Angeles County, California

AGENCY: Federal Highway Administration (FHWA), DOT.

ACTION: Notice of Intent.

SUMMARY: The FHWA is issuing this notice to advise the public that an Environmental Impact Statement will be prepared for a proposed highway widening project in the Cities of La Mirada, Norwalk, Downey and Santa Fe Springs in Los Angeles County, and the City of Buena Park in Orange County, California.

FOR FURTHER INFORMATION CONTACT: Cesar Perez, Senior Transportation Engineer, Federal Highway Administration, California Division, 980 Ninth Street, Suite 400, Sacramento, California 95814-2724, Telephone: (916) 498-5860.

SUPPLEMENTARY INFORMATION: The FHWA, in cooperation with the California Department of Transportation, will prepare an Environmental Impact Statement (EIS) on a proposal to improve Interstate Route 5 (I-5) in Los Angeles and Orange Counties, California. The proposed improvement is to widen the existing I-5 freeway, between State Route 91 (SR-91) and Interstate Route 605 (I-605), to add High Occupancy Vehicle (HOV) lanes and/or general purpose lanes. This project is the initial phase of the I-5 Ultimate HOV project, which proposes to widen I-5 between SR-91 in Orange County and I-710 in Los Angeles County. A Major Investment Study (MIS) for the project was completed July 1998. It identified a ten-lane facility as the locally preferred option.

The purpose of the proposed project is to (1) provide an improved level of service during the weekday AM and PM peak periods and to reduce congestion and enhance safety and mobility in this segment of the I-5 freeway as compared to the no-build condition; (2) provide continuity of facilities and capacity on the I-5 freeway between the SR-91 in Orange County and I-605 in Los Angeles County; (3) maintain flexibility in the freeway corridor for additional capacity improvements; (4) improve interchange access/egress points and levels of service; (5) improve access to regional transit and HOV facilities; (6) improve local surface streets to reduce existing and future congestion; and (7) explore Transportation System Management (TSM) improvements for the I-5 and parallel arterials.

Alternatives under consideration include (1) a no build option; (2) implementing a Transportation System Management/Transportation Demand Management plan; (3) enhancing transit; (4) constructing a 10-lane facility with two HOV lanes; and (5) constructing a 12-lane facility (may be constructed in stages depending on availability of funding) with two or four HOV lanes.

These basic alternatives will have additional design variations, which provide optional lane use (general, HOV, or auxiliary use), optional on and off ramp modifications, and other engineering details. A final selection of alternatives and their subset variations will not be made until all public and agency comments are reviewed following the Scoping process. Note: As required by the National Environmental Policy Act (NEPA), all other reasonable alternatives will be considered. These alternatives may be refined, combined various different alternative elements, or be removed from further consideration, as more analysis is conducted on the project alternatives.

Letters describing the proposed action and soliciting comments are being sent to appropriate Federal, State, and local agencies, and to private organizations and citizens who have previously expressed or are known to have interest in this proposal. Scoping meetings will be held on December 3 and 5, 2001 in La Mirada and Norwalk, respectively. Public notice will be given of the time and place of these meetings.

A series of public meetings will be held after the draft EIS is completed. Public notice will be given of the time and place of the meetings. The draft EIS will be available for public and agency review and comment prior to the formal public hearing.

To ensure that the full range of issues related to this proposed action are addressed and all significant issues identified, comments, and suggestions are invited from all interested parties. Comments or questions concerning this proposal action and the EIS should be directed to the FHWA at the address provided above.

(Catalog of Federal Domestic Assistance Program Number 20.205, Highway Planning and Construction. The regulations implementing Executive Order 12372 regarding intergovernmental consultation on Federal programs and activities apply to this program.)

Issued on: November 16, 2001.
Jeffrey W. Kolb,
Chief, District Operations-South, Sacramento, California.

[FR Doc. 01-29223 Filed 11-21-01; 8:45 am]

BILLING CODE 4910-22-M